DEPARTMENT OF DEFENSE

GENERAL SERVICES ADMINISTRATION

NATIONAL AERONAUTICS AND SPACE ADMINISTRATION

[OMB Control No. 9000-0045; Docket 2016-0053; Sequence 19]

Submission for OMB Review; Bid Guarantees, Performance and Payment Bonds, and Alternative Payment Protections

Correction

In Notice document 2016-13860, appearing on pages 38180-38181, in the Issue of Monday, June 13, 2016, make the following correction:

On page 38180, in the third column, under the heading “DATES:” the entry “August 12, 2016” is corrected to read “July 13, 2016”.

[FR Doc. C1-2016-13860 Filed 6-16-16; 8:45 am]

BILLING CODE 1505-01-D